DEPARTMENT OF ENERGY

Federal Energy Regulatory Commission

[Docket No. CP01-161-000]

Southern Natural Gas Company; Notice of Application

April 30, 2001.

Take notice that on April 20, 2001, Southern Natural Gas Company (Southern), Post Office Box 2563, Birmingham, Alabama 35202-2563, filed in Docket No. CP01-161-000, an application, pursuant to Sections 7(b) and (c) of the Natural Gas Act and Part 157 of the Federal Energy Regulatory Commission's Regulations for abandonment authorization and a certificate of public convenience and necessity authorizing the construction and operation of certain pipeline, compression and appurtenant facilities in Alabama and Mississippi, all as more fully set forth in the application which is on file with the Commission and open to public inspection.

Southern proposes to construct and operate the facilities in order to accommodate deliveries to Calhoun Power Company (Calhoun), Alabama Gas Corporation (Alagasco), and the City of Sylacauga, Alabama (Sylacauga). It is stated that Calhoun proposes to construct an electric power generation plant in Calhoun County, Alabama, and Southern proposes to provide firm transportation service for Calhoun, delivering 85,000 Mcf of natural gas per day to Calhoun's plant for a 10-year term in the months June through September. It is stated that Alagasco and Sylacauga have contracted with Southern to provide natural gas deliveries on a firm basis for a 10-year term in the months October through May. Southern proposes to deliver 30,000 Mcf per day to Alagasco and 3,000 Mcf per day to Sylacauga.

Southern proposes to construct and operate pipeline facilities consisting of approximately 4.6 miles of pipeline loop on its 24-inch mainline in Pickens County, Alabama; approximately 11 miles of replacement line of various diameters on various Southern pipelines in Alabama and Mississippi. Southern proposes to install one 6,000 horsepower compressor at its existing Pell City Compression Station in St. Clair, County, Alabama. Southern proposes to construct and operate dual 18-inch taps on its North Main Line and North Main Line Loop in Calhoun County, Alabama, to facilitate deliveries to Calhoun. Southern estimates the total cost of the proposed facilities at $24.9 million.

Southern states that Calhoun intends to construct nonjurisdictional facilities consisting of a meter station and 2900 feet of connecting pipeline to facilitate the deliveries to its power plant. It is stated that Alabama Power Company, which has contracted to purchase the electric output produced by Calhoun's plan, will construct a nonjurisdictional connecting line to connect its facilities to Southern's Pell City Compressor Station.

Southern explains that, in conjunction with the replacement of various segments of the North Main Line and the Bessemer-Calera Line and Loop, these lines will be tested hydrostatically in order to increase their Maximum Allowable Operating Pressure (MAOP) to 750 psig and 600 psig, respectively. It is further explained that, as a result, 3 segments of 12-inch pipeline, which constitute a river crossing of the Tombigbee River, will be abandoned, because they cannot be uprated to operate at higher pressures.

Any questions regarding this application should be directed to R. David Hendrickson, Associate General Counsel, at (205) 325-714, Southern Natural Gas Company, Post Office Box 2563, Birmingham, Alabama 35202-2563.

There are two ways to become involved in the Commission's review of this project. First, any person wishing to obtain legal status by becoming a party to the proceedings for this project should, on or before May 21, 2001, file with the Federal Energy Regulatory Commission, 888 First Street, NE., Washington, DC 20426, a motion to intervene in accordance with the requirements of the Commission's Rules of Practice and Procedure (18 CFR 385.211 and 385.214) and the regulations under the Natural Gas Act (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments and protests may be filed electronically via the internet in lieu of paper. See 18 CFR 385.2001(a)(1)(iii) and the Commission's website at http://www.ferc.fed.us/efi/doorbell.htm.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervenor status.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

If the Commission decides to set the application for a formal hearing before an Administrative Law Judge, the Commission will issue another notice describing that process. At the end of the Commission's review process, a final Commission order approving or denying a certificate will be issued.

Linwood A. Watson, Jr.,
Acting Secretary.

[FR Doc. 01-11476 Filed 5-4-01; 8:45 am]

BILLING CODE 6717-01-M